DEPARTMENT OF HEALTH AND HUMAN SERVICES

National Institutes of Health

Request for Information (RFI): Inviting Comments and Suggestions on the NIH-Wide Strategic Plan for COVID-19 Research

AGENCY: National Institutes of Health, HHS.

ACTION: Notice.

SUMMARY: This Request for Information (RFI) is intended to gather broad public input on the National Institutes of Health (NIH)-Wide Strategic Plan for COVID-19 Research. Because of the urgency and evolving nature of the pandemic, NIH intends this plan to be a living document, which will be continually updated to reflect new challenges presented by COVID-19. To ensure that it remains in step with public needs, this RFI invites stakeholders throughout the scientific research, advocacy, and clinical practice communities, as well as the general public to comment on the NIH-Wide Strategic Plan for COVID-19 Research. Organizations are strongly encouraged to submit a single response that reflects the views of their organization and their membership as a whole.

DATES: This RFI is open for public comment for a period of five weeks. Comments must be received by 11:59:59 p.m. (ET) on December 7, 2020 to ensure consideration.

ADDRESSES: All comments must be submitted electronically on the submission website, available at: https://rfi.grants.nih.gov/?s=5f91a3efdb70000018003362.

FOR FURTHER INFORMATION CONTACT: Please direct all inquiries to: Beth Walsh, nihstrategicplan@od.nih.gov, 301-496-4000.

SUPPLEMENTARY INFORMATION: Urgent public health measures are needed to control the spread of the novel coronavirus (SARS-CoV-2) and the disease it causes, coronavirus disease 2019, or COVID-19. Scientific research to improve basic understanding of SARS-CoV-2 and COVID-19, and to develop the necessary tools and approaches to better prevent, diagnose, and treat this disease is of paramount importance. The NIH-Wide Strategic Plan for COVID-19 Research (available at: https://www.nih.gov/research-training/medical-research-initiatives/nih-wide-strategic-plan-covid-19-research), released on July 13, 2020, provides a framework for achieving this goal. It describes how NIH is rapidly mobilizing diverse stakeholders, including the biomedical research community, industry, and philanthropic organizations, through new programs and existing resources, to lead a swift, coordinated research response to this global pandemic.

The plan outlines how NIH is implementing five Priorities, guided by three Crosscutting Strategies:

Priorities

• Priority 1: Improve Fundamental Knowledge of SARS-CoV-2 and COVID-19

○ Objective 1.1: Advance fundamental research for SARS-CoV-2 and COVID-19

○ Objective 1.2: Support research to develop preclinical models of SARS-CoV-2 infection and COVID-19

○ Objective 1.3: Advance the understanding of SARS-CoV-2 transmission and COVID-19 dynamics at the population level

○ Objective 1.4: Understand COVID-19 disease progression, recovery, and psychosocial and behavioral health consequences

• Priority 2: Advance Detection and Diagnosis of COVID-19

○ Objective 2.1: Support research to develop and validate new diagnostic technologies

○ Objective 2.2: Retool existing diagnostics for detection of SARS-CoV-2

○ Objective 2.3: Support research to develop and validate serological assays

• Priority 3: Advance the Treatment of COVID-19

○ Objective 3.1: Identify and develop new or repurposed treatments for SARS-CoV-2

○ Objective 3.2: Evaluate new, repurposed, or existing treatments and treatment strategies for COVID-19

○ Objective 3.3: Investigate strategies for access to and implementation of COVID-19 treatments

• Priority 4: Improve Prevention of SARS-CoV-2 Infection

○ Objective 4.1: Develop novel vaccines for the prevention of COVID-19

○ Objective 4.2: Develop and study other methods to prevent SARS-CoV-2 transmission

○ Objective 4.3: Develop effective implementation models for preventive measures

• Priority 5: Prevent and Redress Poor COVID-19 Outcomes in Health Disparity and Vulnerable Populations

○ Objective 5.1: Understand and address COVID-19 as it relates to health disparities and COVID-19—vulnerable populations in the United States

○ Objective 5.2: Understand and address COVID-19 maternal health and pregnancy outcomes

○ Objective 5.3: Understand and address age-specific factors in COVID-19

○ Objective 5.4: Address global health research needs from COVID-19

Crosscutting Strategies

• Partnering to promote collaborative science

○ Leverage existing NIH-funded global research networks and private sector, public, and non-profit relationships

○ Coordinate with Federal partners

○ Establish new public-private partnerships

• Supporting the research workforce and infrastructure

○ Conduct research to elucidate how COVID-19 impacts the scientific workforce

○ Provide research resources

○ Leverage intramural infrastructure to support extramural researchers

○ Conduct virtual peer review processes

• Investing in data science

○ Create new data science resources and analytical tools

○ Develop shared metrics and terminologies

NIH seeks comments on any or all of, but not limited to, the following topics:

• Significant research gaps or barriers not identified in the existing framework above;

• Resources required or lacking or existing leverageable resources (e.g., existing partnerships, collaborations, or infrastructure) that could advance the strategic priorities;

• Emerging scientific advances or techniques in basic, diagnostic, therapeutic, or vaccine research that may accelerate the research priorities detailed in the framework above; and

• Additional ideas for bold, innovative research initiatives, processes, or data-driven approaches that could advance the response to COVID-19.

NIH encourages organizations (e.g., patient advocacy groups, professional organizations) to submit a single response reflective of the views of the organization or membership as a whole.

Responses to this RFI are voluntary and may be submitted anonymously. Please do not include any personally identifiable information or any information that you do not wish to make public. Proprietary, classified, confidential, or sensitive information should not be included in your response. The Government will use the information submitted in response to this RFI at its discretion. The Government reserves the right to use any submitted information on public websites, in reports, in summaries of the state of the science, in any possible resultant solicitation(s), grant(s), or cooperative agreement(s), or in the development of future funding opportunity announcements. This RFI is for informational and planning purposes only and is not a solicitation for applications or an obligation on the part of the Government to provide support for any ideas identified in response to it. Please note that the Government will not pay for the preparation of any information submitted or for use of that information.

We look forward to your input and hope that you will share this RFI opportunity with your colleagues.

Dated: October 27, 2020.
Lawrence A. Tabak,
Principal Deputy Director, National Institutes of Health.

[FR Doc. 2020-24202 Filed 10-30-20; 8:45 am]

BILLING CODE 4140-01-P